DEPARTMENT OF THE INTERIOR

Bureau of Indian Affairs

[190A2100DD/AAKC001030/A0A501010.999900.253G]

Proclaiming Certain Lands as Reservation for the Muckleshoot Indian Tribe of Washington

AGENCY: Bureau of Indian Affairs, Interior.

ACTION: Notice of reservation proclamation.

SUMMARY: This notice informs the public that the Assistant Secretary—Indian Affairs proclaimed approximately 13.71 acres, more or less, an addition to the reservation of the Muckleshoot Indian Reservation on April 17, 2019.

FOR FURTHER INFORMATION CONTACT: Ms. Sharlene M. Round Face, Bureau of Indian Affairs, Division of Real Estate Services, 1849 C Street NW, MS-4642-MIB, Washington, DC 20240, Telephone: (505) 563-3132.

SUPPLEMENTARY INFORMATION: This notice is published in the exercise of authority delegated by the Secretary of the Interior to the Assistant Secretary—Indian Affairs by part 209 of the Departmental Manual.

A proclamation was issued according to the Act of June 18, 1934 (48 Stat. 984; 25 U.S.C. 5110 for the lands described below. The land was proclaimed to be the Muckleshoot Reservation for the Muckleshoot Indian Tribe, King County and State of Washington.

Muckleshoot Reservation of the Muckleshoot Indian Tribe, King County, Washington

Parcel A (Jensen #3): Lot 4, Green Acres South, according to the plat thereof, recorded in Volume 87 of Plats, page 85, in King County, Washington. Except Roads.

Parcel B (GMAC): The southeast quarter of the southeast quarter of the northwest quarter of Section 35, Township 21 North, Range 5 East, W.M., King County, Washington; Except the east 25 feet for road purposes conveyed to King County under Recording Number 284108.

The above described lands contain a total of 13.71 acres, more or less, which are subject to all valid rights, reservations, rights-of-way, and easements of record.

This proclamation does not affect title to the land described above, nor does it affect any valid existing easements for public roads, highways, public utilities, railroads, and pipelines or any other valid easements or rights-of-way or reservations of record.

Dated: April 17, 2019.
Tara Sweeney,
Assistant Secretary—Indian Affairs.

[FR Doc. 2019-09331 Filed 5-6-19; 8:45 am]

BILLING CODE 4337-15-P